DEPARTMENT OF DEFENSE

Department of the Navy

Meeting of the Secretary of the Navy Advisory Panel

AGENCY: Department of the Navy, DoD.

ACTION: Notice of open meeting via audio conferencing.

SUMMARY: The Secretary of the Navy (SECNAV) Advisory Panel will discuss recommendations from the Naval Research Advisory Committee on “How Autonomy can Transform Naval Operations” and “Lightening the Information Load”.

DATES: The Audio Conference will be held on May 13, 2013 from 10:00 a.m. to 12:30 p.m.

ADDRESSES: 1000 Navy Pentagon, Washington, DC 20350-1000. Pentagon Conference Room 4B746.

This will be an audio conference. The SECNAV Advisory Panel Staff will have access to one line open to the public, in the conference room 4B746.

Public access is limited due to the Pentagon Security requirements. Any individual wishing to attend or dial into the audio conference should contact LCDR John Halttunen at 703-695-3042 or Captain Peter Brennan at 703-695-3032 no later than May 8, 2013. Members of the public who do not have Pentagon access will be required to also provide Name, Date of Birth and Social Security number by May 8, 2013 in order to obtain a visitor badge. Public transportation is recommended as public parking is not available. Members of the public wishing to attend this event must enter through the Pentagon's Metro Entrance between 9:00 a.m. and 9:30 a.m. where they will need two forms of identification in order to receive a visitors badge and meet their escort. Members will then be escorted to Room 4B746 to attend the open sessions of the Advisory Panel. Members of the Public shall remain with designated escorts at all times while on the Pentagon Reservation. Members of the public will be escorted back to the Pentagon Metro Entrance upon completion of the meeting.

FOR FURTHER INFORMATION CONTACT: Captain Peter Brennan, SECNAV Advisory Panel, 1000 Navy Pentagon, Washington, DC 20350-1000, 703-695-3032.

SUPPLEMENTARY INFORMATION: Individuals or interested groups may submit written statements for consideration by the SECNAV Advisory Panel at any time or in response to the agenda of a scheduled meeting. All requests must be submitted to the Designated Federal Officer at the address detailed below.

If the written statement is in response to the agenda mentioned in this meeting notice then the statement, if it is to be considered by the Panel for this meeting, must be received at least five days prior to the meeting in question.

The Designated Federal Officer will review all timely submissions with the SECNAV Advisory Panel Chairperson, and ensure they are provided to members of the SECNAV Advisory Panel before the meeting that is the subject of this notice.

To contact the Designated Federal Officer, write to: Designated Federal Officer, SECNAV Advisory Panel, 1000 Navy Pentagon, Washington, DC 20350, 703-695-3032.

Dated: May 1, 2013.
D.G. Zimmerman,
Lieutenant Commander, Office of the Judge Advocate General, U.S. Navy, Federal Register Liaison Officer.

[FR Doc. 2013-10779 Filed 5-6-13; 8:45 am]

BILLING CODE 3810-FF-P